ENVIRONMENTAL PROTECTION AGENCY

[EPA-HQ-OW-2011-0465; FRL-12617-01-OMS]

Agency Information Collection Activities; Submission to the Office of Management and Budget for Review and Approval; Comment Request; Water Quality Standards Regulation (Renewal)

AGENCY: Environmental Protection Agency (EPA).

ACTION: Notice.

SUMMARY: The Environmental Protection Agency (EPA) has submitted an information collection request (ICR), Water Quality Standards Regulation (EPA ICR Number 0988.17, OMB Control Number 2040-0049) to the Office of Management and Budget (OMB) for review and approval in accordance with the Paperwork Reduction Act. This is a proposed extension of the ICR, which is currently approved through February 28, 2025. Public comments were previously requested via the Federal Register on June 5, 2024 during a 60-day comment period. This notice allows for an additional 30 days for public comments.

DATES: Comments may be submitted on or before March 31, 2025.

ADDRESSES: Submit your comments, referencing Docket ID Number EPA-HQ-OW-2011-0465, to EPA online using www.regulations.gov (our preferred method), by email to ow-docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kendall Scarlett, Office of Science and Technology, Standards and Health Protection Division, (4305T), Environmental Protection Agency, 1200 Pennsylvania Ave. NW, Washington, DC 20460; telephone number: 202-564-1465; email address: scarlett.kendall@epa.gov.

SUPPLEMENTARY INFORMATION: This is a proposed extension of the ICR, which is currently approved through February 28, 2025. An agency may not conduct or sponsor and a person is not required to respond to a collection of information unless it displays a currently valid OMB control number.

Public comments were previously requested via the Federal Register on June 5, 2024 during a 60-day comment period (89 FR 48163). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Water quality standards (WQS) under the Clean Water Act (hereafter referred to as “the Act”) are provisions of state, Tribal, or Federal law which consist of designated uses for waters of the United States, water quality criteria to protect those uses, and antidegradation requirements. WQS are established to protect public health or welfare, protect and enhance the quality of water, and serve the purposes of the Act. Such standards serve the dual purposes of establishing the water quality goals for water bodies and serving as the regulatory basis for the establishment of water quality-based treatment controls and strategies beyond technology-based levels of treatment required by sections 301(b) and 306 of the Act. The WQS regulation, consisting of 40 CFR part 131, establishes the framework for states and authorized Tribes to adopt standards, and for the EPA to review and approve or disapprove them.

This ICR renews the WQS Regulation ICR, OMB control no. 2040-0049, expiration date February 28, 2025. This ICR renewal describes the estimated burden for states and authorized Tribes associated with the information collections to implement the requirements of 40 CFR part 131 (Water Quality Standards) and required to obtain or retain benefits (e.g., relaxed regulatory requirements) under the WQS regulation. This WQS Regulation ICR also covers periodic requests for voluntary WQS information from states and Tribes to ensure efficient and effective administration of the WQS program and further cooperative federalism.

At this time, the EPA is working to consolidate the two burden estimates of the activities that were previously split 50/50 between this WQS Regulation ICR and a separate NPDES Program ICR, OMB Control Number 2040-0004. These activities are the Great Lakes Antidegradation Demonstrations and Great Lakes Regulatory Relief Requests. The EPA anticipates that by the time this WQS Regulation ICR renewal is finalized, the full reporting burden for both activities would have been transferred and consolidated within the NPDES Program ICR. Therefore, the EPA is not reporting burden estimates for these two activities in this WQS Regulation ICR renewal.

Form numbers: None.

Respondents/affected entities: Potential respondents to this ICR include: the 50 states, the District of Columbia, five territories, authorized Tribes with the EPA-approved water quality standards (51 Tribes as of October 2024), and a total of 18 additional Tribal respondents over the three-year duration of the ICR. The total number of potential respondents is thus 125.

Respondent's obligation to respond: Some collections in this ICR are mandatory, some are required to obtain or retain benefits pursuant to the WQS Regulation, and some are voluntary.

Estimated number of respondents: 125 (total).

Frequency of response: Variable (once every three years, on occasion or as necessary, or only once) depending on type of information collected.

Total estimated burden: 493,362 hours (per year). Burden is defined at 5 CFR 1320.03(b).

Total estimated cost: $25,235,466 (per year) in labor costs and $345,180 (per year) in operational and maintenance costs. There are no annualized capital costs.

Changes in the estimates: There is increase of 22,600 hours in the total estimated respondent burden compared with the ICR currently approved by OMB. This increase reflects the burden hours associated with the addition of four Tribal respondents for the information collections on “Administering State and Tribal WQS” and “Voluntary WQS Program Information”. See Supporting Statement in the docket for more information.

Courtney Kerwin,
Director, Information Engagement Division.

[FR Doc. 2025-03270 Filed 2-27-25; 8:45 am]

BILLING CODE 6560-50-P